FEDERAL COMMUNICATIONS COMMISSION

Notice of Public Information Collection(s) being Reviewed by the Federal Communications Commission

July 12, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before August 17, 2001. If you anticipate that you will be submitting comments, but find it difficult to do so within the period of time allowed by this notice, you should advise the contact listed below as soon as possible.

ADDRESSES: Direct all comments to Bobby Brown, Federal Communications Commission, Room 1-A739, 445 12th Street, SW, DC 20554 or via the Internet to babrown@fcc.gov.

FOR FURTHER INFORMATION CONTACT: For additional information or copies of the information collection(s), contact Bobby Brown at 202-418-0539 or via the Internet at babrown@fcc.gov.

SUPPLEMENTARY INFORMATION: OMB Control No.: 3060-0211.

Title: Section 73.1943 Political File.

Form No.: Not applicable.

Type of Review: Extension of currently approved collection.

Respondents: Business or other for-profit.

Number of Respondents: 16,597.

Estimated Time Per Response: 0.25 hour per request (each station is estimated to have 25 political broadcasts per year).

Frequency of Response: On occasion.

Total Annual Burden: 104,744 hours.

Total Annual Cost: 0.

Needs and Uses: Section 73.1943 requires licensees of broadcast stations to keep and permit public inspection of a complete record (political file) of all requests for broadcast time made by or on behalf of candidates for public office, together with an appropriate notation showing the disposition made by the licensee of such request. The data is used by the public to assess money expended and time allotted to a political candidate and to ensure that equal access was afforded to other qualified candidates.

Federal Communications Commission.
Magalie Roman Salas,
Secretary.

[FR Doc. 01-17927 Filed 7-17-01; 8:45 am]

BILLING CODE 6712-01-P